GENERAL SERVICES ADMINISTRATION

48 CFR Part 552

[GSAR-TA-2023-02; Docket No. GSA-GSAR-2023-0014; Sequence No. 1]

General Services Administration Acquisition Regulation (GSAR); Personal Identity Verification Requirements Clause Reference; Technical Amendment

AGENCY: Office of Acquisition Policy, General Services Administration (GSA).

ACTION: Technical amendment.

SUMMARY: The General Services Administration is issuing this technical amendment to amend the General Services Administration Acquisition Regulation (GSAR), in order to update a web link as the organization website has been changed since the publication of the final rule (GSAR Case 2022-G521).

DATES: Effective May 19, 2023.

FOR FURTHER INFORMATION CONTACT: For clarification of content, contact Mr. Clarence Harrison at GSARPolicy@gsa.gov or 202-227-7051. For information pertaining to status or publication schedules, contact the Regulatory Secretariat Division at GSARegSec@gsa.gov or 202-501-4755.

SUPPLEMENTARY INFORMATION:

I. Background

On March 27, 2023, GSA amended the General Services Administration Acquisition Regulation (GSAR) through a final rule (88 FR 18074). The document contained a web link that has been updated, therefore, this technical amendment updates the CFR by correcting the link at GSAR 552.204-9 in paragraph (a).

List of Subjects in 48 CFR Part 552

Government procurement.

Jeffrey A. Koses,
Senior Procurement Executive, Office of Acquisition Policy, Office of Government-wide Policy, General Services Administration.

Therefore, GSA amends 48 CFR part 552 by making the following technical amendment:

PART 552—SOLICITATION PROVISIONS AND CONTRACT CLAUSES

1. The authority citation for 48 CFR part 552 continues to read as follows:

Authority: 40 U.S.C. 121(c).

552.204-9 [Amended]

2. Amend section 552.204-9 in paragraph (b) by removing the web link “https://www.gsa.gov/hspd12” and adding “https://www.gsa.gov/resources/for-federal-employees/access-gsa-facilities-and-systems-with-a-piv-card” in its place.

[FR Doc. 2023-10669 Filed 5-18-23; 8:45 am]

BILLING CODE 6820-61-P